DEPARTMENT OF HOMELAND SECURITY

Federal Emergency Management Agency

44 CFR Part 67

[Docket ID FEMA-2011-0002; Internal Agency Docket No. FEMA-B-1175]

Proposed Flood Elevation Determinations

AGENCY: Federal Emergency Management Agency, DHS.

ACTION: Proposed rule; correction.

SUMMARY: On February 16, 2011, FEMA published in the Federal Register a proposed rule that contained an erroneous table. This notice provides corrections to that table, to be used in lieu of the information published at 76 FR 8978. The table provided here represents the flooding sources, location of referenced elevations, effective and modified elevations, and communities affected for Yolo County, California, and Incorporated Areas. Specifically, it addresses the following flooding sources: Cache Creek, Cache Creek Left Bank Overflow, and Cache Creek Right Bank Overflow.

DATES: Comments are to be submitted on or before August 8, 2011.

ADDRESSES: You may submit comments, identified by Docket No. FEMA-B-1175, to Luis Rodriguez, Chief, Engineering Management Branch, Federal Insurance and Mitigation Administration, Federal Emergency Management Agency, 500 C Street, SW., Washington, DC 20472, (202) 646-4064 or (e-mail) luis.rodriguez1@dhs.gov.

FOR FURTHER INFORMATION CONTACT: Luis Rodriguez, Chief, Engineering Management Branch, Federal Insurance and Mitigation Administration, Federal Emergency Management Agency, 500 C Street, SW., Washington, DC 20472, (202) 646-4064 or (e-mail) luis.rodriguez1@dhs.gov.

SUPPLEMENTARY INFORMATION: The Federal Emergency Management Agency (FEMA) publishes proposed determinations of Base (1% annual-chance) Flood Elevations (BFEs) and modified BFEs for communities participating in the National Flood Insurance Program (NFIP), in accordance with section 110 of the Flood Disaster Protection Act of 1973, 42 U.S.C. 4104, and 44 CFR 67.4(a).

These proposed BFEs and modified BFEs, together with the floodplain management criteria required by 44 CFR 60.3, are minimum requirements. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Corrections

In the proposed rule published at 76 FR 8978, in the February 16, 2011, issue of the Federal Register, FEMA published a table under the authority of 44 CFR 67.4. The table, entitled “Unincorporated Areas of Yolo County, California” addressed the flooding source Cache Creek Settling Basin. That table contained inaccurate information as to the location of referenced elevation, effective and modified elevation in feet, and/or communities affected for this flooding source. In this notice, FEMA is publishing a table containing the accurate information, to address these prior errors. The information published in the Federal Register on February 16, 2011, for Cache Creek Settling Basin has been divided into individual descriptions for Cache Creek, Cache Creek Left Bank Overflow, and Cache Creek Right Bank Overflow to provide more detailed information on the area affected by these proposed BFEs and modified BFEs. The City of Woodland also has been added as a community affected by Cache Creek Right Bank Overflow. The information provided below should be used in lieu of that previously published for Cache Creek Settling Basin.

Flooding source(s) | Location of referenced elevation** | *Elevation in feet (NGVD) +Elevation in feet (NAVD) #Depth in feet above ground ‸Elevation in meters (MSL): Effective | *Elevation in feet (NGVD) +Elevation in feet (NAVD) #Depth in feet above ground ‸Elevation in meters (MSL): Modified | Communities affected
Yolo County, California, and Incorporated Areas
Cache Creek | Approximately 3,200 feet downstream of County Road 102 | +48 | +54 | Unincorporated Areas of Yolo County.
| Approximately 1.4 miles downstream of County Road 94B | +95 | +94
Cache Creek Left Bank Overflow | Approximately 1.9 miles east of the intersection of County Road 103 and County Road 20 | None | +40 | Unincorporated Areas of Yolo County.
| Approximately 3,200 feet downstream of County Road 102 | +48 | +54
Cache Creek Right Bank Overflow | Approximately 1.1 miles east of the intersection of County Road 24 and County Road 102 | +36 | +37 | City of Woodland, Unincorporated Areas of Yolo County.
| Approximately 1,500 feet north of the intersection of County Road 96B and County Road 19B | +91 | +93
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
City of Woodland
Maps are available for inspection at the Community Development Department, 520 Court Street, Woodland, CA 95695.
Unincorporated Areas of Yolo County
Maps are available for inspection at the Yolo County Department of Planning and Public Works, 292 West Beamer Street, Woodland, CA 95695.

(Catalog of Federal Domestic Assistance No. 97.022, “Flood Insurance.”)

Dated: April 26, 2011.
Sandra K. Knight,
Deputy Federal Insurance and Mitigation Administrator, Mitigation, Department of Homeland Security, Federal Emergency Management Agency.

[FR Doc. 2011-11245 Filed 5-9-11; 8:45 am]

BILLING CODE 9110-12-P